DEPARTMENT OF AGRICULTURE

Agricultural Marketing Service

[Docket No. AMS-LPS-16-0114]

U.S. Standards for Grades of Catfish and Catfish Products

AGENCY: Agricultural Marketing Service, USDA.

ACTION: Notice.

SUMMARY: This Notice informs the public that the Agricultural Marketing Service (AMS) will not proceed with the development of voluntary U.S. Standards for Grades of Catfish and Catfish Products at this time.

DATES: January 23, 2017.

ADDRESSES: USDA, AMS, Quality Assessment Division (QAD); 1400 Independence Avenue SW., Stop 0258, Room 3932-S, Washington, DC 20250.

FOR FURTHER INFORMATION CONTACT: David Bowden, Chief, Standardization Branch; USDA, AMS, QAD; 1400 Independence Avenue SW., Stop 0258, Room 3932-S, Washington, DC 20250; phone (202) 690-3148; or via email at David.Bowden@ams.usda.gov. Alternately, Bucky Gwartney, Marketing Specialist, Standardization Branch; USDA, AMS, QAD; 1400 Independence Avenue SW., Stop 0258, Room 3932-S, Washington, DC 20250; phone (202) 720-1424; or via email at Bucky.Gwartney@ams.usda.gov.

SUPPLEMENTARY INFORMATION: Under section 203(c) of the Agricultural Marketing Act of 1946 (7 U.S.C. 1621-1627), the Secretary of Agriculture is directed to “develop and improve standards of quality, condition, quantity, grade, and packaging, and recommend and demonstrate such standards in order to encourage uniformity and consistency in commercial practices.” USDA is committed to carrying out this authority in a manner that facilitates the marketing of agricultural products. One method of achieving this objective is through the development and maintenance of standards by AMS. Currently, AMS maintains standards for a wide variety of commodities and in many cases applies those standards to commodities on a fee-for-service basis.

The Food, Conservation, and Energy Act of 2008 (2008 Farm Bill) and the Agricultural Act of 2014 (2014 Farm Bill) directed the Secretary of Agriculture to establish within USDA a voluntary, fee-based grading program for catfish. Since passage of the 2008 and 2014 Farm Bills, and particularly since the publication of the Food Safety and Inspection Service (FSIS) final rule, “Mandatory Inspection of Fish of the Order Siluriformes and Products Derived From Such Fish,” which defined catfish (80 FR 75589), AMS has engaged the U.S. catfish industry and other stakeholders to seek input on requirements for voluntary U.S. standards for grades of catfish. This culminated in a Notice published in the Federal Register (81 FR 45449) on July 14, 2016, inviting the public to submit information, background, comments, and data to assist in the development of voluntary U.S. Standards for Grades of Catfish and Catfish Products.

During the 60-day comment period, four responses were submitted—two from catfish importers, one from an industry institution, and one from a U.S. catfish producer/processor. One importer stated support for a USDA grading program if it included all Siluriformes species (currently, imported products of many varieties of Siluriformes are not eligible to be graded under the U.S. Department of Commerce's National Marine Fisheries Service (NMFS) Standard). Two additional responses did not support USDA's development of voluntary U.S. standards or a grading program. One pointed out the duplicity of creating these under AMS when they already exist under NFMS, noting the unnecessary use of resources to develop a program “and market to a consuming [public] that is not demanding a new U.S. Grade Standard;” the other recommended the use of the NMFS standards and grading program, as these are already familiar to the industry and their customers. The final response was outside the scope of the Notice, as it objected to the mandatory inspection of fish of the order Siluriformes by FSIS but did not address development by USDA of voluntary U.S. standards or a grading program. These comments are available at the following Web site: https://www.regulations.gov/document?D=AMS-LPS-16-0006.

Based on the responses received from the Notice as well as additional feedback from stakeholders through other avenues, including two industry workshops coordinated by AMS and academia and an industry-wide conference call held by AMS in May 2016, AMS has concluded that there is not sufficient interest in USDA-AMS standards for catfish or an AMS-administered grading program at this time.

It is important to note that a standard for catfish, and associated voluntary grading services, are currently available to the industry through NMFS. NMFS maintains the “United States Standards for Grades of North American Freshwater Catfish and Products Made Therefrom” and provides grading and certification services on a fee-for-service basis. Graded catfish and catfish products may bear official marks, including `U.S. Grade A,' `Processed Under Federal Inspection,' and `Lot Inspection.' Additional services provided by NMFS include system and process audits, product inspection, and export certification.

In light of the response from industry stakeholders indicating there is no current need for USDA-AMS standards nor a subsequent AMS-administered grading program for catfish, AMS will discontinue the initiative to establish either at this time. AMS stands ready to assist agricultural industries in establishing voluntary standards and grading programs for commodities for which it has authority to do so; the catfish industry retains this option should the need arise.

Dated: January 17, 2017.
Elanor Starmer,
Administrator, Agricultural Marketing Service.

[FR Doc. 2017-01413 Filed 1-19-17; 8:45 am]

BILLING CODE 3410-02-P